NUCLEAR REGULATORY COMMISSION

Notice of Availability of Model Application Concerning Elimination of Typical License Condition Requiring Reporting of Violations of Section 2.C of Operating License Using the Consolidated Line Item Improvement Process

AGENCY: Nuclear Regulatory Commission.

ACTION: Notice of Availability.

SUMMARY: Notice is hereby given that the staff of the Nuclear Regulatory Commission (NRC) has prepared a model application related to the elimination of the license condition that requires reporting of violations of other requirements (typically in License Condition 2.C) in the operating license of some commercial nuclear power plants. The purpose of this model is to permit the NRC to efficiently process amendments that propose to delete the reporting requirement from operating licenses. Licensees of nuclear power reactors to which the model applies may request amendments using the model application.

DATES: The NRC staff issued a Federal Register notice (70 FR 51098, August 29, 2005) that provided a model safety evaluation (SE) and a model no significant hazards consideration (NSHC) determination relating to the elimination of the license condition that requires reporting of violations of other requirements (typically in License Condition 2.C) in operating licenses. The NRC staff hereby announces that the model SE and NSHC determination may be referenced in plant-specific applications to adopt the changes. The NRC staff has posted a model application on the NRC Web site to assist licensees in using the consolidated line item improvement process (CLIIP) to delete the reporting requirement in operating licenses. The NRC staff can most efficiently consider applications based upon the model application if the application is submitted within a year of this Federal Register notice.

FOR FURTHER INFORMATION CONTACT: William Reckley, Mail Stop: O7D1, Division of Licensing Project Management, Office of Nuclear Reactor Regulation, U.S. Nuclear Regulatory Commission, Washington, DC 20555-0001, telephone 301-415-1323.

SUPPLEMENTARY INFORMATION:

Background

Regulatory Issue Summary 2000-06, “Consolidated Line Item Improvement Process for Adopting Standard Technical Specification Changes for Power Reactors,” was issued on March 20, 2000. The CLIIP includes an opportunity for the public to comment on proposed changes to operating licenses, including the technical specifications (TS), after a preliminary assessment by the NRC staff and a finding that the change will likely be offered for adoption by licensees. The CLIIP directs the NRC staff to evaluate any comments received for a proposed generic change to operating licenses and to either reconsider the change or to proceed with announcing the availability of the change for proposed adoption by licensees. Those licensees opting to apply for the subject change to operating licenses are responsible for reviewing the NRC staff's evaluation, referencing the applicable technical justifications, and providing any necessary plant-specific information. Each amendment application made in response to the notice of availability will be processed and noticed in accordance with applicable rules and NRC procedures.

This notice involves a change that deletes a requirement for licensees to report violations of other requirements (typically in License Condition 2.C) of a facility's operating license.

Applicability

This proposal to eliminate the reporting of violations of specific requirements (typically in License Condition 2.C) of facility operating licenses is applicable to any licensee that has such a provision in its facility operating license. The NRC staff notes that many operating licenses do not contain the requirement because it was never added or was removed by a license amendment before issuance of this notice. The CLIIP also addresses similar requirements if they exist in the Administrative Section of TS. The CLIIP does not address reporting requirements contained in operating licenses other than those specifically involving reports of violations of other requirements (typically in License Condition 2.C) of the facility operating license or requirements that restate the need to submit reports in accordance with 10 CFR 50.72, “Immediate notification requirements for operating nuclear power reactors,” and 10 CFR 50.73, “Licensee event report system.”

To efficiently process the incoming license amendment applications, the NRC staff requests each licensee applying for the changes using the CLIIP to provide the information identified in the model application posted on the NRC Web site.

Public Notices

In a notice in the Federal Register dated August 29, 2005 (70 FR 51098), the NRC staff requested comment on the use of the CLIIP to process requests to delete the subject reporting requirement in operating licenses. In addition, there have been multiple notices published for plant-specific amendment requests to adopt changes similar to those described in this notice.

The NRC staff's SE and model application may be examined, and/or copied for a fee, at the NRC's Public Document Room, located at One White Flint North, 11555 Rockville Pike (first floor), Rockville, Maryland. Publicly available records are accessible electronically from the Agencywide Documents Access and Management System (ADAMS) Public Library component on the NRC Web site, (the Electronic Reading Room).

The NRC staff received two responses following the notice published August 29, 2005 (70 FR 51098), soliciting comments on the model SE and NSHC determination related to the elimination of the reporting requirement in operating licenses. The responses were from the Nuclear Energy Institute (NEI) in a letter dated September 28, 2005, and South Carolina Electric and Gas (SCE&G) in a letter dated September 26, 2005. Both letters supported the generic approach proposed in the notice and did not offer changes to the model SE or NSHC determination. The NRC staff finds that the previously published models remain appropriate references and has chosen not to republish the model SE and model NSHC determination in this notice. As described in the model application prepared by the NRC staff, licensees may reference in their plant-specific applications to delete the reporting requirement, the SE, NSHC determination, and environmental assessment previously published in the Federal Register (70 FR 51098; August 29, 2005).

Dated at Rockville, Maryland, this 25th day of October 2005.
For the Nuclear Regulatory Commission.
William D. Reckley,
Senior Project Manager, Section 1, Project Directorate IV, Division of Licensing Project Management, Office of Nuclear Reactor Regulation.

[FR Doc. E5-6119 Filed 11-3-05; 8:45 am]

BILLING CODE 7590-01-P